DEPARTMENT OF COMMERCE

National Oceanic and Atmospheric Administration (NOAA)

Marine Protected Areas Federal Advisory Committee Request for Nominations

AGENCY: National Ocean Service, NOAA, Department of Commerce.

ACTION: Notice requesting nominations for the Marine Protected Areas Federal Advisory Committee.

SUMMARY: The Department of Commerce is seeking nominations for membership on the Marine Protected Areas Federal Advisory Committee. The Marine Protected Areas Federal Advisory Committee was established to advise the Secretary of Commerce and the Secretary of the Interior in implementing Section 4 of Executive Order 13158, and specifically on strategies and priorities for developing the national system of marine protected areas (MPAs) and on practical approaches to further enhance and expand protection of new and existing MPAs.

Nominations are sought for highly qualified non-federal scientists, resource managers, and persons representing other interests or organizations involved with or affected by marine conservation. Individuals seeking membership on the Advisory Committee should possess demonstrable expertise in a related field or represent a stakeholder interest affected by MPAs. Nominees will also be evaluated based on the following factors: marine policy experience, leadership and organization skills, region of country represented, and diversity characteristics. The membership reflects the Department's commitment to attaining balance and diversity. The full text of the Committee charter and its current membership can be viewed on the Agency's Web page at http://mpa.gov/fac.html. Vacancies on the Committee occur from time to time and additional information on specific qualifications being sought will be posted on the Web site.

DATES: This notice of recruitment will be open for one year from its date of publication in the Federal Register.

ADDRESSES: Nominations should be sent to: Lauren Wenzel, Marine Protected Areas Center, NOAA, N/ORM, 1305 East West Highway, Silver Spring, MD 20910.

FOR FURTHER INFORMATION CONTACT: Lauren Wenzel, Designated Federal Officer, MPAFAC, National Marine Protected Areas Center, N/ORM, 1305 East-West Highway, Silver Spring, Maryland 20910. (Phone: (301) -713-3100 x136, Fax: (301) -713-3110); e-mail: lauren.wenzel@noaa.gov; or visit the national MPA Center Web site at https://www.mpa.gov).

SUPPLEMENTARY INFORMATION: In Executive Order 13158, the Department of Commerce and the Department of the Interior were directed to seek the expert advice and recommendations of non-federal scientists, resource managers, and other interested persons and organizations through a Marine Protected Areas Federal Advisory Committee. The Committee was established in June 2003 and includes 30 members.

The Committee meets at least twice a year. Committee members serve for a term of two or four years.

Each nomination submission should include the proposed committee member's name and organizational affiliation, a cover letter describing the nominee's qualifications and interest in serving on the Committee, a curriculum vitae or resume of nominee, and no more than three supporting letters describing the nominee's qualifications and interest in serving on the Committee. Self-nominations are acceptable. The following contact information should accompany each submission: the nominee's name, address, phone number, fax number, and e-mail address if available.

Dated: June 7, 2005.
Eldon Hout,
Director, Office of Ocean and Coastal Resource Management.

[FR Doc. 05-11937 Filed 6-16-05; 8:45 am]

BILLING CODE 3510-08-P